LEGAL SERVICES CORPORATION

Sunshine Act Meetings

TIME AND DATE: The Search Committee for LSC Inspector General (Search Committee) of the Legal Services Corporation Board of Directors will meet virtually on Friday, February 17, 2023. The meeting will commence at 1:00 p.m. EST, and will continue until the conclusion of the Committee's agenda.

PLACE: Public Notice of Virtual Meetings. LSC will conduct the February 17, 2023 meeting via Zoom.

STATUS: Closed.

MATTERS TO BE CONSIDERED:

Closed Session

1. Approval of Agenda

2. Identify Candidates for Interviews

3. Decide on Interview Questions and Other Aspects of the Interview Process

4. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: February 8, 2023.
Jessica Wechter,
Special Assistant to the President, Legal Services Corporation.

[FR Doc. 2023-03081 Filed 2-9-23; 11:15 am]

BILLING CODE 7050-01-P